DEPARTMENT OF JUSTICE

Notice of Lodging of Consent Decree Under the Comprehensive Environmental Response, Compensation and Liability Act

Notice is hereby given that on May 25, 2005, a proposed Consent Decree in United States v. The Newark Group, Inc., Civil Action No. 05-02144-JW, was lodged with the United States District Court for the Northern District of California.

In this action, the United States sought the performance of certain response actions, pursuant to Section 106 of the Comprehensive Environmental Response, Compensation and Liability Act (“CERCLA”), 42 U.S.C. 9606, and the reimbursement of response costs incurred, pursuant to Section 107(a) CERCLA, 42 U.S.C. 9607(a), in connection with the cleanup of the Lorentz Barrel and Drum Site (“Site”) in San Jose, CA. Under the proposed Consent Decree, The Newark Group, Inc. (“Newark”) will perform long-term maintenance of the asphalt and concrete caps on its 1.47-acre property, which is part of the Site. In addition, Newark will establish institutional controls limiting future uses of its property. Finally, Newark will reimburse the United States $15,000 in response costs.

The Department of Justice will receive for a period of thirty (30) days from the date of this publication comments relating to the Consent Decree. Comments should be addressed to the Assistant Attorney General, Environment and Natural Resources Division, P.O. Box 7611, U.S. Department of Justice, Washington, DC 20044-7611, with a copy to Matthew A. Fogelson, Trial Attorney, U.S. Department of Justice, Environment and Natural Resources Division, Environmental Enforcement Section, 301 Howard Street, Suite 1050, San Francisco, CA 94105, and should refer to United States v. The Newark Group, Inc., D.J. Ref. 90-11-2-467/5. Commenters may request an opportunity for a public meeting in the affected area, in accordance with Section 7003(d) of RCRA, 42 U.S.C. 6973(d).

The Consent Decree may be examined at the Office of the United States Attorney, 150 Almaden Blvd. Suite, 900., San Jose, CA, and at U.S. EPA Region IX, 75 Hawthorne Street, San Francisco, CA. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy form the Consent Decree Library, please enclose a check in the amount of $12.50 (25 cents per page reproduction cost) payable to the U.S. Treasury.

Ellen M. Mahan,
Assistant Section Chief, Environmental Enforcement Section, Environment and Natural Resources Division.

[FR Doc. 05-12390 Filed 6-22-05; 8:45 am]

BILLING CODE 4410-15-M